DEPARTMENT OF HEALTH AND HUMAN SERVICES

Health Resources and Services Administration

Agency Information Collection Activities: Submission to OMB for Review and Approval; Public Comment Request; Information Collection Request Title: Health Professions Student Loan (HPSL) Program and Nursing Student Loan (NSL) Program Administrative Requirements (Regulations and Policy). OMB No. 0915-0047-Revision

AGENCY: Health Resources and Services Administration (HRSA), Department of Health and Human Services (HHS).

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than March 16, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference.

Information Collection Request Title: Health Professions Student Loan (HPSL) Program and Nursing Student Loan (NSL) Program Administrative Requirements (Regulations and Policy). OMB No. 0915-0047-Revision.

Abstract: The HPSL Program, as authorized by Public Health Service (PHS) Act Sections 721-722 and 725-735, provides long-term, low-interest loans to students attending schools of medicine, osteopathic medicine, dentistry, veterinary medicine, optometry, podiatric medicine, and pharmacy. The NSL Program, as authorized by PHS Act Sections 835-842, provides long-term, low-interest loans to students who attend eligible schools of nursing in programs leading to a diploma and degrees in nursing, including an associate degree, a baccalaureate degree, or graduate degree in nursing. It also contains a number of recordkeeping and reporting requirements for academic institutions and loan applicants. The applicable regulations for these programs under 42 CFR part 57 implement and detail the various statutory requirements (see chart below). In an effort to consolidate information collection requests and achieve greater programmatic efficiency, HRSA is incorporating the Deferment Form (Deferment-HRSA Form 519) and the Annual Operating Report (AOR-HRSA Form 501) both formerly incorporated under OMB No. 0915-0044, into this information collection request. As a result, the OMB No. 0915-0044 package will be discontinued.

Need and Proposed Use of the Information: Participating HPSL and NSL schools are responsible for determining eligibility of applicants, making loans, and collecting monies owed by borrowers on their outstanding loans. The Deferment Form (Deferment-HRSA Form 519), provides the schools with documentation of a borrower's deferment status, as detailed for the HPSL Program under 42 CFR part 57.210 and for NSL under 42 CFR part 57.310. The Annual Operating Report (AOR-HRSA Form 501), provides HHS with information from participating schools (including schools that are no longer disbursing loans but are required to report and maintain program records, student records, and repayment records until all student loans are repaid in full and all monies due to the Federal Government are returned) relating to HPSL and NSL Program operations and financial activities. Moreover, the HPSL and NSL Program requirements are essential for assuring that borrowers are aware of their rights and responsibilities, academic institutions have accurate records of the history and status of each loan account in order to pursue aggressive collection efforts to reduce default rates, and that academic institutions maintain adequate records for audit and assessment purposes to help HHS safeguard federal funds expended through the Federal Capital Contribution (FCC). Academic institutions are free to use improved information technology to manage the information required by the regulations.

Likely Respondents: Financial Aid Directors working at institutions participating in the HPSL and NSL Programs.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Instrument (HPSL & NSL) | Number of respondents | Responses per respondent | Total responses | Hours per response | Total burden hours
Deferment—HRSA Form 519 | 3,125 | 1 | 3,125 | 0.5 | 1,562.5
AOR-HRSA—Form 501 | 768 | 1 | 768 | 12.0 | 9,216.0
Total | 3,893 |  | 3,893 |  | 10,778.5

Recordkeeping Requirements
Regulatory/section requirements | Number of record keepers | Hours per year | Total burden hours
HPSL Program
57.206(b)(2), Documentation of Cost of Attendance | 432 | 1.05 | 454
57.208(a), Promissory Note | 432 | 1.25 | 540
57.210((b)(1)(i), Documentation of Entrance Interview | 432 | 1.25 | 540
57.210(b)(1)(ii), Documentation of Exit Interview | 475 | 0.37 | 176
57.215(a)&(d), Program Records | 475 | 10.00 | 4,750
57.215(b), Student Records | 475 | 10.00 | 4,750
57.215(c), Repayment Records | 475 | 19.55 | 9,286
HPSL Subtotal |  |  | 20,496
NSL Program
57.306(b)(2)(ii), Documentation of Cost of Attendance | 304 | 0.25 | 76
57.308(a), Promissory Note | 304 | 0.50 | 152
57.310(b)(1)(i), Documentation of Entrance Interview | 304 | 0.50 | 152
57.310(b)(1)(ii), Documentation of Exit Interview | 486 | 0.14 | 68
57.315(a)(1)&(a)(4), Program Records | 486 | 5.00 | 2,430
57.315(a)(2), Student Records | 486 | 1.00 | 486
57.315(a)(3), Repayment Records | 486 | 2.51 | 1,220
NSL Subtotal |  |  | 4,584

HPSL data includes active and closing Loans for Disadvantaged Students (LDS) program schools.

Reporting Requirements
Regulatory/section requirements | Number of respondents | Responses per respondent | Total annual responses | Hours per response | Total hour burden
HPSL Program
57.206(a)(2), Student Financial Aid Transcript | 4,600 | 1.0 | 4,600 | 0.25 | 1,150
57.208(c), Loan Information Disclosure | 325 | 299.5 | 97,338 | 0.63 | 61,323
57.210(b)(1)(i), Entrance Interview | 325 | 139.5 | 45,338 | 0.50 | 22,669
57.210(b)(1)(ii), Exit Interview | 334 | 113.5 | 37,909 | 1.00 | 37,909
57.210(b)(1)(iii), Notification of Repayment | 334 | 862.5 | 288,075 | 0.38 | 109,469
57.210(b)(1)(iv), Notification During Deferment | 333 | 17.0 | 5,661 | 0.63 | 3,566
57.210(b)(1)(vi), Notification of Delinquent Accounts | 334 | 172.5 | 57,615 | 1.25 | 72,019
57.210(b)(1)(x), Credit Bureau Notification | 334 | 6.0 | 2,004 | 0.50 | 1,002
57.210(b)(4)(i), Write-off of Uncollectible Loans | 520 | 1.0 | 520 | 3.00 | 1,560
57.211(a) Disability Cancellation | 3 | 1.0 | 3 | 1.00 | 3
57.215(a)(2), Administrative Hearings | 0 | 0.0 | 0 | 0.00 | 0
57.215(a)(d), Administrative Hearings | 0 | 0.0 | 0 | 0.00 | 0
HPSL Subtotal | * 334 |  | 539,063 |  | 310,670
NSL Program
57.306(a)(2), Student Financial Aid Transcript | 4,100 | 1.0 | 4,100 | 0.25 | 1,025
57.310(b)(1)(i), Entrance Interview | 282 | 17.5 | 4,935 | 0.42 | 2,073
57.310(b)(1)(ii), Exit Interview | 348 | 9.0 | 3,132 | 0.42 | 1,315
57.301(b)(1)(iii), Notification of Repayment | 348 | 9.0 | 3,132 | 0.27 | 846
57.310(b)(1)(iv), Notification During Deferment | 348 | 1.5 | 522 | 0.29 | 151
57.310(b)(1)(vi), Notification of Delinquent Accounts | 348 | 42.5 | 14,790 | 0.04 | 592
57.310(b)(1)(x), Credit Bureau Notification | 348 | 709.0 | 246,732 | 0.006 | 1,480
57.310(b)(4)(i), Write-off of Uncollectible Loans | 23 | 1.0 | 23 | 3.00 | 69
57.311(a), Disability Cancellation | 16 | 1.0 | 16 | 1.00 | 16
57.315(a)(1)(ii), Administrative Hearings | 0 | 0.0 | 0 | 0.00 | 0
57.316a, Administrative Hearings | 0 | 0.0 | 0 | 0.00 | 0
NSL Subtotal | * 348 |  | 277,382 |  | 7,567
* Includes active and closing schools.

Amy McNulty.
Acting Director, Division of the Executive Secretariat.

[FR Doc. 2018-02958 Filed 2-13-18; 8:45 am]

BILLING CODE 4165-15-P